DEPARTMENT OF HOUSING AND URBAN DEVELOPMENT

[Docket No. FR-4723-FA-17]

Announcement of Funding Awards for Fiscal Year 2002 Early Doctoral Student Research Grant Program

AGENCY: Office of the Assistant Secretary for Policy Development and Research, HUD.

ACTION: Announcement of funding awards.

SUMMARY: In accordance with section 102(a)(4)(C) of the Department of Housing and Urban Development Reform Act of 1989, this document notifies the public of funding awards for the Fiscal Year 2002 Early Doctoral Student Research Grant (EDSRG) Program. The purpose of this document is to announce the names and addresses of the award winners and the amount of the awards to be used to help doctoral students cultivate their research skills through the preparation of research manuscripts that focus on housing and urban development issues.

FOR FURTHER INFORMATION CONTACT: Susan Brunson, Office of University Partnerships, Department of Housing and Urban Development, Room 8106, 451 Seventh Street, SW., Washington, DC 20410, telephone (202) 708-3061, ext. 3852. To provide service for persons who are hearing-or-speech-impaired, this number may be reached via TTY by Dialing the Federal Information Relay Service on 800-877-8339 or 202-708-1455. (Telephone number, other than “800” TTY numbers are not toll free.)

SUPPLEMENTARY INFORMATION: The EDSRG Program provides funds to eligible doctoral students to cultivate their research skills through preparation of research manuscripts that focus on housing and urban development issues. Students, who are in the early stages of their doctoral studies, have 12 months to complete a major research study. The maximum amount to be awarded to doctoral student is $15,000.

The Office of University Partnerships under the Assistant Secretary for Policy Development and Research (PD&R) administers this program. This Office also administers PD&R's other grant programs for academics.

The Catalog of Federal Domestic Assistance number for this program is 14.517.

March 26, 2002 (67 FR 14607), HUD published a Notice of Funding Availability (NOFA) announcing the availability of $150,000 in FY 2002 funds for the EDSRG Program. The Department reviewed, evaluated and scored the applications received based on the criteria in the NOFA. As a result, HUD has funded the applications announced below, and in accordance with section 102(a)(4)(C) of the Department of Housing and Urban Development Reform Act of 1989 (103 Stat. 1987, U.S.C. 3545), the Department is publishing details concerning the recipients of funding awards, as set forth below. More information about the winners can be found at www.oup.org

List of Awardees for Grant Assistance Under the FY 2002 Early Doctoral Student Research Grant Program Funding Competition, by Name, Address, Grant Amount and Number of Students Funded

1. University of Pennsylvania, Mr. W. Stuart Watson, Real Estate, 1333 South 36th Street, Philadelphia, PA 19104. Grant: $12,000 to Kevin Gillen.

2. University of Pittsburgh, Mr. Michael M. Crouch, Public Policy and Public Administration, 3G07 Wesley W. Posvar Hall, Pittsburgh, PA 15260. Grant: $14,942 to Andrew Aurand.

3. Syracuse University, Mr. Stuart Taub, Economics, 113 Bowne Hall, Syracuse, NY 13244. Grant: $15,000 to Christopher Cunningham.

4. Harvard University, Robert Bloomberg, Public Policy, Holyoke Center #727, 1350 Massachusetts Avenue, Cambridge, MA 02138-3800. Grant: $13,050 to Jenny Schuetz.

5. University of Illinois, Mr. Eric A. Gislason, Economic Development, 1333 South 36th Street, Philadelphia, PA 19104. Grant: $15,000 to Raymond Massssssenburg.

6. University of California, Berkeley's, Mr. Steven Raphel, Public Policy, University of California, Berkeley, Berkeley, CA 94720-5940. Grant: $14,820 to Sarah R. Dunn.

7. Ohio State University, Mr. Richard D. Fortner, City & Regional Planning, 1960 Kenny Road, Columbus, OH 43210-1063. Grant: $14,611 to Katrin Britta Anacker.

8. Cornell University, Ms. Kimberly Hayes, City and Regional Planning, 115 Day Hall, Ithaca, NY 14853. Grant: $15,000 to Jonathan Martin.

9. University of Southern California, Mr. Lloyd Armstrong, Jr., School of Planning and Development, University Park, Los Angeles, CA 90089-1147. Grant: $15,000 to Duan Zhuang.

10. University of Arizona, Mr. Richard Powell, Sociology, P.O. Box 3308, Tucson, AZ 85722-3308. Grant: $15,000 to Laura Stephens.

Dated: October 23, 2002.
Harold Bunce,
Deputy Assistant Secretary for Economic Affairs.

[FR Doc. 02-28125 Filed 11-5-02; 8:45 am]

BILLING CODE 4210-62-P